DEPARTMENT OF HEALTH AND HUMAN SERVICES

Health Resources and Services Administration

Agency Information Collection Activities: Submission to OMB for Review and Approval; Public Comment Request; Advanced Education Nursing Traineeship (AENT) Program Specific Data Collection Forms

AGENCY: Health Resources and Services Administration (HRSA), Department of Health and Human Services.

ACTION: Notice.

SUMMARY: In compliance with the requirement for opportunity for public comment on proposed data collection projects of the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than February 8, 2017.

ADDRESSES: Submit your comments, including the ICR Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Advanced Education Nursing Traineeship (AENT) Program Specific Data Collection Forms for Use with the New Advanced Nursing Education Workforce (ANEW) Program.

OMB No. 0915-0375—Revision

Abstract: The Advanced Nursing Education Workforce (ANEW) Program is a new program that incorporates elements of HRSA's Advanced Education Nursing Traineeship (AENT) and Advanced Nursing Education (ANE) programs. The current OMB approved Program Specific Data Collection Forms for the former AENT Program will be simplified and used for the ANEW program. HRSA provides advanced education nursing grants to educational institutions to increase the numbers of advanced education nurses through the ANEW Program. The ANEW Program is authorized by Title VIII, Section 811 of the Public Health Service Act (42 U.S.C. 296j). This renewal with revision request includes the Project Abstract, Program Narrative, Attachments, and Tables. The proposed ANEW Tables are very similar to the previous AENT Tables and include information on program participants such as the projected number of enrollees/trainees receiving traineeship support; projected number of graduates receiving traineeship support for the previous fiscal year; the types of programs they are enrolling into and/or from which enrollees/trainees are graduating, and the distribution of primary care nurse practitioners (NP), primary care clinical nurse specialists (CNS); and nurse-midwives who plan to practice in rural and underserved settings. To reduce the reporting burden for applicants, HRSA simplified the Tables to focus on the types of providers and practice settings that are included in the statute in order to determine whether applicants qualify for the preference or special consideration in making awards for this program.

Need and Proposed Use of the Information: HRSA will use this information in determining the eligibility for the statutory funding preference and special consideration, and to succinctly capture data for the number of projected students for subsequent years in the project period.

Likely Respondents: Likely respondents are potential applicants for the ANEW program. Eligible applicants for the ANEW program include entities that provide registered nurses with primary care NP, primary CNS, and nurse-midwife education. Such programs may include accredited schools of nursing, nursing centers, academic health centers, state or local governments, and other public or private nonprofit entities authorized by the Secretary of HHS to confer degrees to registered nurses for primary care NP, primary care CNS, or nurse-midwife education. Federally recognized Indian Tribal Government and Native American Organizations as well as faith-based or community-based organizations may apply if they are otherwise eligible.

Eligible state government entities include the 50 states, the District of Columbia, Guam, the Commonwealth of Puerto Rico, the Northern Mariana Islands, American Samoa, the U.S. Virgin Islands, the Federated States of Micronesia, the Republic of the Marshall Islands, and the Republic of Palau.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and be able to respond to a collection of information; to search data sources; to complete and review the collection of information; and to transmit or otherwise disclose the information. The total annual burden hours estimated for this ICR are summarized in the table below.

Total estimated annualized burden hours:

Form name | Number of respondents | Number of responses per respondent | Total responses | Average burden per response (in hours) | Total burden hours
ANEW Application including the ANEW Program Specific Tables and Attachments | 236 | 1 | 236 | 7 | 1,652
Total | 236 | 1 | 236 | 7 | 1,652

Jason E. Bennett,
Director, Division of the Executive Secretariat.

[FR Doc. 2017-00277 Filed 1-6-17; 8:45 am]

BILLING CODE 4165-15-P